DEPARTMENT OF COMMERCE

National Oceanic and Atmospheric Administration

RIN 0648-XE49

Fisheries of the South Atlantic; South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of its Deepwater Shrimp Advisory Panel and Golden Crab Advisory Panel in Charleston, SC.

DATES: The meetings will take place January 27-29, 2008. See SUPPLEMENTARY INFORMATION for specific dates and times.

ADDRESSES: The meetings will be held at the Radisson Resort at the Port, 8701 Astronaut Blvd., Cape Canaveral, FL 32920; telephone: (800) 333-3333 or (321) 784-0000; fax: (321) 783-7718.

FOR FURTHER INFORMATION CONTACT: Kim Iverson, Public Information Officer, South Atlantic Fishery Management Council, 4055 Faber Place Drive, Suite 201, North Charleston, SC 29405; telephone: (843) 571-4366 or toll free (866) SAFMC-10; fax: (843) 769-4520; email: kim.iverson@safmc.net.

SUPPLEMENTARY INFORMATION: Members of the Golden Crab Advisory Panel will meet from 1 p.m.—5 p.m. on January 27, 2008, and from 8:30 a.m.—12 noon on January 28, 2008. The Golden Crab Advisory Panel will meet jointly with the Deepwater Shrimp Advisory Panel from 1:30 p.m.—3:30 p.m. on January 28, 2008. The Deepwater Shrimp Advisory Panel will meet from 4 p.m.—6 p.m. on January 28, 2008 and on January 29, 2008 from 8 a.m.—3 p.m.

Both the Rock Shrimp and Golden Crab Advisory Panels (APs) will receive the following presentations: (1) an overview of the Council's Fishery Ecosystem Plan (FEP) Comprehensive Amendment, (2) deepwater coral habitats in the South Atlantic Region, and (3) an update on recommendations from the recent joint meeting of the Council's Habitat and Coral Advisory Panels. Following the presentations, advisory panel members will discuss and provide recommendations on fishing operations relative to deepwater coral areas proposed as Habitat Areas of Particular Concern (HAPCs) included in the Council's Comprehensive Ecosystem Amendment 1. The Rock Shrimp AP and Golden Crab AP will meet jointly to discuss common fishing areas.

In addition, the Deepwater Shrimp AP will provide recommendations regarding Amendment 7 to the Shrimp Fishery Management Plan (FMP) addressing the current landings requirement for the rock shrimp fishery for the South Atlantic region. The requirement, created as part of a limited access program for the rock shrimp fishery through Amendment 5 to the Shrimp FMP for the South Atlantic Region, states that if a limited access rock shrimp endorsement is “not active” during a 48 month period (4 calendar years), it will not be renewed. A rock shrimp limited access endorsement is defined as inactive when the vessel it is attached to has less than 15,000 pounds of documented rock shrimp harvest from the exclusive economic zone (EEZ) within the South Atlantic Council's area of jurisdiction within one of four calendar years beginning in 2004.

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meetings.

Note: The times and sequence specified in this agenda are subject to change.

Dated: December 18, 2007.
Tracey L. Thompson,
Acting Director, Office of Sustainable Fisheries, National Marine Fisheries Service.

[FR Doc. E7-24818 Filed 12-20-07; 8:45 am]

BILLING CODE 3510-22-S